DEPARTMENT OF COMMERCE

Foreign-Trade Zones Board

[B-07-2020]

Foreign-Trade Zone (FTZ) 52—Hauppauge, New York; Authorization of Limited Production Activity, Regent Tek Industries, Inc. (Road Marking Material), Shirley, New York

On January 31, 2020, Regent Tek Industries, Inc., submitted a notification of proposed production activity to the FTZ Board for its facility within FTZ 52, in Shirley, New York.

The notification was processed in accordance with the regulations of the FTZ Board (15 CFR part 400), including notice in the Federal Register inviting public comment (85 FR 7919, February 12, 2020). On June 1, 2020, the applicant was notified of the FTZ Board's decision that further review is warranted before the FTZ Board could consider unrestricted FTZ authority for the titanium dioxide (TiO2) input. The FTZ Board authorized the production activity described in the notification on a limited basis, subject to the FTZ Act and the Board's regulations, including Section 400.14, and further subject to the following restrictions:

(1) A five-year limit on authorization for admission of the TiO2 input in nonprivileged foreign (NPF) status (19 CFR 146.42); and,

(2) during the five-year authorization period set out in the first restriction, an annual limit of 1.1 million pounds on admission of the TiO2 input in NPF status.

Dated: June 1, 2020.
Andrew McGilvray,
Executive Secretary.

[FR Doc. 2020-12064 Filed 6-3-20; 8:45 am]

BILLING CODE 3510-DS-P